DEPARTMENT OF THE INTERIOR

Bureau of Land Management

[NM-122352; L51010000 ER0000 LVRWG10G0760 LLNMF01000]

Notice of Availability of the Draft Environmental Impact Statement for the San Juan Basin Energy Connect 230kV Transmission Line Project in New Mexico and Colorado

AGENCY: Bureau of Land Management, Interior.

ACTION: Notice of availability.

SUMMARY: In accordance with the National Environmental Policy Act of 1969, as amended (NEPA), the Bureau of Land Management (BLM) has prepared a Draft Environmental Impact Statement (EIS) for the San Juan Basin Energy Connect Project (Project) and by this notice is announcing the opening of the comment period.

DATES: To ensure that comments will be considered, the BLM must receive written comments on the Project Draft EIS within 45 days following the date the Environmental Protection Agency publishes its Notice of Availability in the Federal Register. The BLM will announce future meetings or hearings and any other public involvement activities at least 15 days in advance through public notices, media releases, and/or mailings.

ADDRESSES: You may submit comments related to the Draft EIS for the Project by any of the following methods:

• Web site: http://www.blm.gov/nm/sjbec.

• Email: blm_nm_ffo_comments@blm.gov.

• Fax: 505-564-7608.

• Mail: Bureau of Land Management, Farmington Field Office, 6251 College Blvd., Suite A, Farmington, NM 87402

Copies of the Project EIS are available in the Farmington Field Office at the above address.

FOR FURTHER INFORMATION CONTACT: Marcy Romero, Project Manager, telephone 505-564-7727; address Farmington Field Office, 6251 College Blvd., Suite A, Farmington, NM 87402; email: blm_nm_ffo_comments@blm.gov. Persons who use a telecommunications device for the deaf (TDD) may call the Federal Information Relay Service (FIRS) at 1-800-877-8339 to contact Ms. Romero during normal business hours. The FIRS is available 24 hours a day, 7 days a week, to leave a message or question for Ms. Romero. You will receive a reply during normal business hours.

SUPPLEMENTARY INFORMATION: Tri-State Generation and Transmission Association (Tri-State) submitted a right-of-way (ROW) application to construct, operate, and maintain a 230 kilovolt (kV) transmission line from the Farmington, New Mexico area to Ignacio, Colorado. The proposed transmission project would be located on BLM-managed public lands, Southern Ute Indian Tribe (Southern Ute) tribal lands, New Mexico State lands, and private lands. Tri-State seeks approval from the Bureau of Indian Affairs (BIA), relating to the portion of the project that would cross Southern Ute tribal lands, and the New Mexico State Land Office. Tri-State is also requesting approval from La Plata County for the operation and construction of the transmission line on private properties located in La Plata County. Tri-State is requesting financial assistance for the Project from the U.S. Department of Agriculture's Rural Utilities Service (RUS). Tri-State is also requesting approval from the Western Area Power Administration (Western) to interconnect its proposed 230 kV transmission line to Western's Shiprock Substation and also to locate the new Three Rivers Substation on Western's reserved area within BLM lands.

Before making a decision, Federal agencies, including the BLM, BIA, RUS, and Western, must comply with the requirements of NEPA, Section 106 of the National Historic Preservation Act (NHPA), and Section 7 of the Endangered Species Act (ESA). The BLM is the lead Federal agency for NEPA, NHPA, and ESA review and compliance. The EIS preparation is a joint process among the BLM and the cooperating agencies. The cooperating agencies include the BIA, RUS, Western, Southern Ute, La Plata County, the New Mexico State Land Office, and the Navajo Nation. The purpose and need for BLM's action is to respond to TriState's ROW application for access to BLM-managed lands for the construction and operation of the transmission line, substations, and access roads.

The BLM published the Notice of Intent in the Federal Register on January 25, 2011 (76 FR 4371), and scoping continued to April 1, 2011. Three public scoping meetings and one agency scoping meeting were held on March 16 and 17, 2011, in Farmington and Aztec, New Mexico, and Ignacio, Colorado, to solicit comments on the scope of the EIS. The key issue topics resulting from scoping are: Lands and realty actions, processes, and effects; effects to visual resources, water and wetlands, air quality, cultural resources, the Old Spanish National Historic Trail, socioeconomics, and wildlife species and habitats; and public health and safety effects, and potential cumulative effects. Further details on scoping issues and comments received are in the scoping report available on the project Web site: http://www.blm.gov/nm/sjbec

This Draft EIS analyzes a No Action Alternative and two action alternatives: The Preferred Alternative and the Proposed Action. The action alternatives were developed from a comprehensive process that considered a wide range of electrical system and transmission route alternatives. Both action alternatives are about 65 miles long. The action alternatives would originate from Western's Shiprock Substation and would interconnect to a new substation, the Three Rivers Substation. From the new Three Rivers Substation, the transmission lines would extend to a new 230 kV substation, the Kiffen Canyon Substation, located just north of the City of Farmington's existing Glade Tap Substation. The action alternatives would continue northeast and would terminate at the existing Iron Horse Substation near Ignacio, Colorado. The action alternatives also include constructing access roads by building new unpaved roads, improving existing access roads, and using existing roads in their current state. The action alternatives differ in their proposed alignment for the transmission line and the supporting access network.

For this Draft EIS, the No Action Alternative indicates that the BLM would not grant Tri-State a ROW for the construction and operation of the proposed Project. The Project facilities, including transmission lines and substations, would not be built and existing land uses, and present activities in the Project study area would continue. The No Action Alternative does not consider the potential for additional actions that could occur if the action alternatives were denied.

The BLM will use and coordinate the NEPA commenting process to satisfy the public involvement process for Section 106 of the NHPA (16 U.S.C. 470f) as provided for in 36 CFR 800.2(d)(3). Ongoing tribal consultations will continue to be conducted in accordance with policy and tribal concerns, including impacts on Indian trust assets. Federal, State, and local agencies, along with other stakeholders that may be interested or affected by the BLM's decision on this Project, are invited to participate. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may publicly be made available at any time. While you can ask us in your comment to withhold your personal identifying information from public review, we cannot guarantee that we will be able to do so.

Authority: 40 CFR 1506.6, 40 CFR 1506.10.

Michael H. Tupper,
Acting State Director.

[FR Doc. 2014-05479 Filed 3-13-14; 8:45 am]

BILLING CODE 4310-FB-P